DEPARTMENT OF EDUCATION

Application for New Awards; National Center for Information and Technical Support for Postsecondary Students With Disabilities

AGENCY: Office of Postsecondary Education, Department of Education.

ACTION: Notice.

Overview Information

National Center for Information and Technical Support for Postsecondary Students with Disabilities

Notice inviting applications for new awards for fiscal year (FY) 2015.

Catalog of Federal Domestic Assistance (CFDA) Number: 84.116D.

DATES: Applications Available: June 19, 2015.

Deadline for Transmittal of Applications: August 3, 2015.

Full Text of Announcement

I. Funding Opportunity Description

Purpose of Program: The purpose of this program is to support a National Center for Information and Technical Support for Postsecondary Students with Disabilities (the Center) to provide technical assistance and information on best and promising practices for students with disabilities as they transition to or attend postsecondary education. Institutions of higher education, as well as elementary and secondary schools, have legal obligations under two civil rights laws prohibiting disability discrimination, section 504 of the Rehabilitation Act of 1973 (29 U.S.C. 794) and the Americans with Disabilities Act of 1990 (ADA) (42 U.S.C. 12101-12213). The technical assistance and information provided by the Center can help students, parents, and educational officials in determining how to meet these obligations and ensure the rights of students with disabilities. In particular, the Center can assist students with disabilities and their families in understanding that in institutions of higher education, students with disabilities do not have the same rights and protections they had in secondary school under section 504 and the Individuals with Disabilities Education Act (IDEA), 20 U.S.C. 1400 et seq., for eligible children with disabilities. Students with disabilities and their parents need to understand the differences in these rights and responsibilities as they enter college and pursue postsecondary education. Specifically, unlike students in secondary school, postsecondary students are responsible for requesting the academic adjustments, auxiliary aids and services, and other accommodations they need in order to succeed, and are expected to comply with reasonable requirements that an institution of higher education may have concerning documentation of disability and the need for accommodations under section 504 and the ADA.

Note: A more detailed explanation of the differences in rights and responsibilities of students with disabilities in secondary school and postsecondary institutions can be found in two pamphlets issued by the Department's Office for Civil Rights. They are “Transition of Students With Disabilities to Postsecondary Education: A Guide for High School Educators,” available at: www2.ed.gov/about/offices/list/ocr/transitionguide.html and “Students with Disabilities Preparing for Postsecondary Education: Know Your Rights and Responsibilities,” available at: www2.ed.gov/about/offices/list/ocr/transition.html.

Priorities: This notice contains one absolute priority and one invitational priority. In accordance with 34 CFR 75.105(b)(2)(iv), the absolute priority is from section 777(a) of the Higher Education Act of 1965, as amended (HEA) (20 U.S.C. 1140q(a)).

Absolute Priority: For FY 2015 and any subsequent year in which we make awards from the list of unfunded applicants from this competition, this priority is an absolute priority. Under 34 CFR 75.105(c)(3), we consider only applications that meet this priority.

This priority is:

Entities that can demonstrate the experience and capacity to improve postsecondary recruitment, transition, retention, and completion rates of students with disabilities by providing:

1. Assistance to students and families. The Center must provide information and technical assistance to students with disabilities and the families of students with disabilities to support students across the broad spectrum of disabilities, including—

(a) Information to assist individuals with disabilities who are prospective students of an institution of higher education in planning for postsecondary education while the students are in secondary school;

(b) Information and technical assistance provided to individualized education program teams (as defined in 20 U.S.C. 1414(d)(1)(B)) and teams determining services under section 504 of the Rehabilitation Act of 1973, as amended, for secondary school students with disabilities, and to early outreach and student services programs, including programs authorized under subparts 2, 4, and 5 of title IV of the HEA, to support students across a broad spectrum of disabilities with the successful transition to postsecondary education;

(c) Research-based supports, services, and accommodations which are available in postsecondary settings, including services provided by other agencies such as vocational rehabilitation;

(d) Information on student mentoring and networking opportunities for students with disabilities; and

(e) Effective recruitment and transition programs at postsecondary educational institutions.

2. Assistance to institutions of higher education. The Center must provide information and technical assistance to faculty, staff, and administrators of institutions of higher education to improve the services provided to, the accommodations for, the retention rates of, and the completion rates of, students with disabilities in higher education settings, which may include—

(a) Collection and dissemination of best and promising practices and materials for accommodating and supporting students with disabilities, including practices and materials supported by the grants, contracts, or cooperative agreements authorized under subparts 1, 2, and 3 of title VII, part D, subpart 4 of the HEA (20 U.S.C. 1140q);

(b) Development and provision of training modules for higher education faculty on exemplary practices for accommodating and supporting postsecondary students with disabilities across a range of academic fields, which may include universal design for learning and practices supported by the grants, contracts, or cooperative agreements authorized under subparts 1, 2, and 3 of title VII, part D, subpart 4 of the HEA (20 U.S.C. 1140q); and

(c) Development of technology-based tutorials for higher education faculty and staff, including new faculty and graduate students, on best and promising practices related to support and retention of students with disabilities in postsecondary education.

3. Information collection and dissemination. The Center will be responsible for building, maintaining, and updating a database of disability support services information with respect to institutions of higher education, or for expanding and updating an existing database of disabilities support services information with respect to institutions of higher education. This database shall be available to the general public through a Web site. This database and Web site must include available information on—

(a) Disability documentation requirements;

(b) Support services available;

(c) Links to financial aid;

(d) Accommodations policies;

(e) Accessible instructional materials;

(f) Other topics relevant to students with disabilities; and

(g) The information in the report described in paragraph (5) below.

4. Disability support services. The Center must work with organizations and individuals with proven expertise related to disability support services for postsecondary students with disabilities to evaluate, improve, and disseminate information related to the delivery of high quality disability support services at institutions of higher education.

5. Review and report. Not later than three years after the establishment of the Center, and every two years thereafter, the Center must prepare and disseminate a report to the Secretary and the Congressional authorizing committees analyzing the condition of postsecondary success for students with disabilities. The report must include—

(a) A review of the activities and the effectiveness of the programs authorized under title VII, part D of the HEA;

(b) Annual enrollment and graduation rates of students with disabilities in institutions of higher education from publicly reported data;

(c) Recommendations for effective postsecondary supports and services for students with disabilities, and how such supports and services may be widely implemented at institutions of higher education;

(d) Recommendations on reducing barriers to full participation for students with disabilities in higher education; and

(e) A description of strategies with a demonstrated record of effectiveness in improving the success of such students in postsecondary education.

6. Staffing of the Center. In hiring employees, the Center must consider the expertise and experience of prospective employees in providing training and technical assistance to practitioners.

Note: Web sites established or maintained to carry out any project funded under this competition must meet WCAG 2.0 AA standards (Source: www.w3.org/TR/2008/REC-WCAG20-20081211/). Documents posted on grantee Web sites—at a minimum—must meet the Department of Education's accessibility standards set out at www2.ed.gov/internal/internalguidelines.html.

Invitational Priority: For FY 2015 and any subsequent year in which we make awards from the list of unfunded applicants from this competition, this priority is an invitational priority. Under 34 CFR 75.105(c)(1), we do not give an application that meets this invitational priority a competitive or absolute preference over other applications.

This priority is:

Entities that intend to collaborate with The National Technical Assistance Center on Improving Transition to Postsecondary Education and Employment for Students with Disabilities (www.nsttac.org), the Center for Parent Information and Resources(www.parentcenterhub.org) and the National Collaboration on Workforce and Disability (www.ncwd-youth.info), and with one or more additional disability-related organization(s) of their choice.

Program Authority: 20 U.S.C. 1140q(a).

Applicable Regulations: (a) The Education Department General Administrative Regulations in 34 CFR parts 75, 77, 79, 82, 84, 86, 97, 98, and 99. (b) The Office of Management and Budget Guidelines to Agencies on Governmentwide Debarment and suspension (Nonprocurement) in 2 CFR part 180, as adopted and amended as regulations of the Department in 2 CFR part 3485. (c) The Uniform Administrative Requirements, Cost Principles, and Audit Requirements for Federal Awards in 2 CFR part 200, as adopted and amended in 2 CFR part 3474.

II. Award Information

Type of Award: Cooperative agreement.

Estimated Available Funds: $2,475,000.

Maximum Award: We will reject any application that proposes a budget exceeding $2,475,000 for the entire performance period. The Assistant Secretary for Postsecondary Education may change the maximum amount through a notice published in the Federal Register.

Estimated Number of Awards: 1.

Note: The Department is not bound by any estimates in this notice.

Project Period: Up to 48 months.

III. Eligibility Information

1. Eligible Applicants: Under section 777(a)(3)of the HEA, an “eligible entity” is an institution of higher education that meets the definition in section 101 of the HEA (20 U.S.C. 1001); a nonprofit organization; or a partnership of two or more such IHEs or organizations, with demonstrated expertise in:

(a) Supporting students with disabilities in postsecondary education;

(b) Technical knowledge necessary for the dissemination of information in accessible formats;

(c) Working with diverse types of institutions of higher education, including community colleges; and

(d) The subjects necessary to support students across the broad spectrum of disabilities.

2. Cost Sharing or Matching: This program does not require cost sharing or matching.

IV. Application and Submission Information

1. Address to Request Application Package: You can obtain an application package via the Internet or from the Education Publications Center (ED Pubs).

To obtain a copy via the Internet, use the following address: www.ed.gov/fund/grant/apply/grantapps/index.html.

To obtain a copy from ED Pubs, write, fax, or call the following: ED Pubs, U.S. Department of Education, P.O. Box 22207, Alexandria, VA 22304. Telephone, toll free: 1-877-433-7827. FAX: (703) 605-6794. If you use a telecommunications device for the deaf (TDD) or a text telephone (TTY), call, toll free: 1-877-576-7734.

You can contact ED Pubs at its Web site: www.EDPubs.gov or at its email address: edpubs@inet.ed.gov.

If you request an application from ED Pubs, be sure to identify this program or competition as follows: CFDA number 84.116D.

Individuals with disabilities can obtain a copy of the application package in an accessible format (e.g., braille, large print, audiotape, or compact disc) by contacting the person listed under Accessible Format in section VIII of this notice.

2. Content and Form of Application Submission: Requirements concerning the content of an application, together with the forms you must submit, are in the application package for this program.

Page Limit: The application narrative (Part III of the application) is where you, the applicant, address the selection criteria that reviewers use to evaluate your application. Any application addressing the invitational priority must address it in the abstract and the narrative. You must limit the section of the application narrative that addresses:

• The selection criteria and the absolute priority to no more than 40 pages.

• The invitational priority to no more than three pages, if you address it.

Please include a separate heading for the absolute priority and the invitational priority if you address it. Under no circumstances may the application narrative exceed 43 pages, using the following standards:

• A “page” is 8.5” x 11”, on one side only, with 1” margins at the top, bottom, and both sides.

Note: For purposes of determining compliance with the 43 page limit, each page on which there are words will be counted as one full page.

• Double space (no more than three lines per vertical inch) all text in the application narrative, except titles, headings, footnotes, endnotes, quotations, references, and captions. Charts, tables, figures, and graphs in the application narrative may be single spaced.

• Use a font that is either 12 point or larger; or, no smaller than 10 pitch (characters per inch). However, you may use a 10 point font in charts, tables, figures, graphs, footnotes, and endnotes.

• Use one of the following fonts: Times New Roman, Courier, Courier New, or Arial. An application submitted in any other font (including Times Roman or Arial Narrow) will not be accepted.

The page limit does not apply to Part I, the Application for Federal Assistance (SF 424) and the Department of Education Supplemental Information for the SF 424 Form; the one-page Abstract; Budget Information—Non-Construction Programs (ED 524); or Part IV, the Assurances and Certifications. The page limit also does not apply to a Table of Contents, if you include one. However, the page limit does apply to all of the project narrative section in Part III.

If you include any attachments or appendices not specifically requested, these items will be counted as part of the program narrative [Part III] for purposes of the page limit requirement. We will reject your application if you exceed the page limit, or if you apply other standards and exceed the equivalent of the page limit.

3. Submission Dates and Times:

Applications Available: June 19, 2015.

Deadline for Transmittal of Applications: August 3, 2015.

Applications for grants under this program must be submitted electronically using the Grants.gov Apply site (Grants.gov). For information (including dates and times) about how to submit your application electronically, or in paper format by mail or hand delivery if you qualify for an exception to the electronic submission requirement, please refer to section IV. 7. Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

4. Intergovernmental Review: This program is subject to Executive Order 12372 and the regulations in 34 CFR part 79. Information about Intergovernmental Review of Federal Programs under Executive Order 12372 is in the application package for this program.

5. Funding Restrictions: We reference regulations outlining funding restrictions in the Applicable Regulations section of this notice.

6. Data Universal Numbering System Number, Taxpayer Identification Number, and System for Award Management: To do business with the Department of Education, you must—

a. Have a Data Universal Numbering System (DUNS) number and a Taxpayer Identification Number (TIN);

b. Register both your DUNS number and TIN with the System for Award Management (SAM) (formerly the Central Contractor Registry (CCR)), the Government's primary registrant database;

c. Provide your DUNS number and TIN on your application; and

d. Maintain an active SAM registration with current information while your application is under review by the Department and, if you are awarded a grant, during the project period.

You can obtain a DUNS number from Dun and Bradstreet. A DUNS number can be created within one to two business days.

If you are a corporate entity, agency, institution, or organization, you can obtain a TIN from the Internal Revenue Service. If you are an individual, you can obtain a TIN from the Internal Revenue Service or the Social Security Administration. If you need a new TIN, please allow two to five weeks for your TIN to become active.

The SAM registration process can take approximately seven business days, but may take upwards of several weeks, depending on the completeness and accuracy of the data entered into the SAM database by an entity. Thus, if you think you might want to apply for Federal financial assistance under a program administered by the Department, please allow sufficient time to obtain and register your DUNS number and TIN. We strongly recommend that you register early.

Note: Once your SAM registration is active, you will need to allow 24 to 48 hours for the information to be available in Grants.gov and before you can submit an application through Grants.gov.

If you are currently registered with SAM, you may not need to make any changes. However, please make certain that the TIN associated with your DUNS number is correct. Also note that you will need to update your registration annually. This may take three or more business days. Information about SAM is available at www.SAM.gov. To further assist you with obtaining and registering your DUNS number and TIN in SAM or updating your existing SAM account, we have prepared a SAM.gov Tip Sheet, which you can find at: www2.ed.gov/fund/grant/apply/sam-faqs.html.

In addition, if you are submitting your application via Grants.gov, you must (1) be designated by your organization as an Authorized Organization Representative (AOR); and (2) register yourself with Grants.gov as an AOR. Details on these steps are outlined at the following Grants.gov Web page: www.grants.gov/web/grants/register.html.

7. Other Submission Requirements: Applications for awards under this program must be submitted electronically unless you qualify for an exception to this requirement in accordance with the instructions in this section.

a. Electronic Submission of Applications.

Applications for grants under the Center program, CFDA number 84.116D, must be submitted electronically using the Governmentwide Grants.gov Apply site at www.Grants.gov. Through this site, you will be able to download a copy of the application package, complete it offline, and then upload and submit your application. You may not email an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic application for the Center program at www.Grants.gov. You must search for the downloadable application package for this program by the CFDA number. Do not include the CFDA number's alpha suffix in your search (e.g., search for 84.116, not 84.116D).

Please note the following:

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this program to ensure that you submit your application in a timely manner to the Grants.gov system. You can also find the Education Submission Procedures pertaining to Grants.gov under News and Events on the Department's G5 system home page at www.G5.gov.

• You will not receive additional point value because you submit your application in electronic format, nor will we penalize you if you qualify for an exception to the electronic submission requirement, as described elsewhere in this section, and submit your application in paper format.

• You must submit all documents electronically, including all information you typically provide on the following forms: the Application for Federal Assistance (SF 424), the Department of Education Supplemental Information for SF 424, Budget Information—Non-Construction Programs (ED 524), and all necessary assurances and certifications.

• You must upload any narrative sections and all other attachments to your application as files in a PDF (Portable Document) read-only, non-modifiable format. Do not upload an interactive or fillable PDF file. If you upload a file type other than a read-only, non-modifiable PDF or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by email. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT in section VII of this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because--

• You do not have access to the Internet; or

• You do not have the capacity to upload large documents to the Grants.gov system;

and

• No later than two weeks before the application deadline date (14 calendar days or, if the fourteenth calendar day before the application deadline date falls on a Federal holiday, the next business day following the Federal holiday), you mail or fax a written statement to the Department, explaining which of the two grounds for an exception prevents you from using the Internet to submit your application.

If you mail your written statement to the Department, it must be postmarked no later than two weeks before the application deadline date. If you fax your written statement to the Department, we must receive the faxed statement no later than two weeks before the application deadline date.

Address and mail or fax your statement to: John Clement, National Center for Information and Technical Support for Postsecondary Students with Disabilities, U.S. Department of Education, 1990 K Street NW., room 6006, Washington, DC 20006-8544. FAX: (202) 502-7877.

Your paper application must be submitted in accordance with the mail or hand delivery instructions described in this notice.

b. Submission of Paper Applications by Mail.

If you qualify for an exception to the electronic submission requirement, you may mail (through the U.S. Postal Service or a commercial carrier) your application to the Department. You must mail the original and two copies of your application, on or before the application deadline date, to the Department at the following address: U.S. Department of Education, Application Control Center, Attention: (CFDA Number 84.116D), LBJ Basement Level 1, 400 Maryland Avenue SW., Washington, DC 20202-4260. You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you qualify for an exception to the electronic submission requirement, you (or a courier service) may deliver your paper application to the Department by hand. You must deliver the original and two copies of your application, by hand, on or before the application deadline date, to the Department at the following address: U.S. Department of Education, Application Control Center, Attention: (CFDA Number 84.116D), 550 12th Street SW., Room 7039, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your application. If you do not receive this notification within 15 business days from the application deadline date, you should call the U.S. Department of Education Application Control Center at (202) 245-6288.

V. Application Review Information

1. Selection Criteria: The following selection criteria for this program are from 34 CFR 75.210 and from section 777(a) of the HEA (20 U.S.C. 1140q(a)). We will award up to 100 points to an application under the selection criteria; the total possible points for each selection criterion are noted in parentheses.

a. Demonstration of eligibility. (Maximum 25 points) The Secretary considers whether the applicant has demonstrated expertise and experience sufficient to meet the requirements to be an eligible entity under section 777(a)(3). In considering eligibility, the Secretary considers the following factors:

1. Demonstrated expertise and experience in supporting students with disabilities in postsecondary education;

2. Demonstrated technical knowledge necessary for the dissemination of information in accessible formats;

3. Demonstrated experience working with diverse types of institutions of higher education, including community colleges; and

4. Demonstrated expertise in the subjects necessary to support students across the broad spectrum of disabilities.

b. Quality of the project design. (Maximum 15 points) The Secretary considers the quality of the design of the proposed project. In determining the quality of the design of the proposed project, the Secretary considers the following factors:

1. The extent to which the design of the proposed project is appropriate to, and will successfully address, the needs of the target population or other identified needs;

2. The extent to which the design for implementing and evaluating the proposed project will result in information to guide possible replication of project activities or strategies, including information about the effectiveness of the approach or strategies employed by the project;

3. The extent to which the proposed project will establish linkages with other appropriate agencies and organizations providing services to the target population;

4. The extent to which the proposed project is designed to build capacity and yield results that will extend beyond the period of Federal financial assistance; and

5. The extent to which performance feedback and continuous improvement are integral to the design of the proposed project.

c. Quality of project services. (Maximum 15 points) The Secretary considers the quality of the services to be provided by the proposed project. In determining the quality of the services to be provided by the proposed project, the Secretary considers the quality and sufficiency of strategies for ensuring equal access and treatment for eligible project participants who are members of groups that have traditionally been underrepresented based on race, color, national origin, gender, age, or disability. In addition, the Secretary considers:

1. The extent to which the services to be provided by the proposed project are appropriate to the needs of the intended recipients or beneficiaries of those services;

2. The likelihood that the services to be provided by the proposed project will lead to improvements in the achievement of students as measured against rigorous academic standards;

3. The extent to which the services to be provided by the proposed project involve the collaboration of appropriate partners for maximizing the effectiveness of project services; and

4. The extent to which the technical assistance services to be provided by the proposed project involve the use of efficient strategies, including the use of technology, as appropriate, and the leveraging of non-project resources.

d. Quality of project personnel. (Maximum 15 points) The Secretary considers the quality of the personnel who will carry out the proposed project. In determining the quality of project personnel, the Secretary considers the extent to which the applicant encourages applications for employment from persons who are members of groups that have traditionally been underrepresented based on race, color, national origin, gender, age, or disability. In addition, the Secretary considers the following factors:

1. The qualifications, including relevant training and experience, of the project director or principal investigator;

2. The qualifications, including relevant training and experience, of key project personnel; and

3. The qualifications, including relevant training and experience, of project consultants or subcontractors.

e. Quality of the Management Plan. (Maximum 10 points) The Secretary considers the quality of the management plan for the proposed project. In determining the quality of the management plan, the Secretary considers the following factors:

1. The adequacy of the management plan to achieve the objectives of the proposed project on time and within budget, including clearly defined responsibilities, timelines, and milestones for accomplishing project tasks;

2. The adequacy of procedures for ensuring feedback and continuous improvement in the operation of the proposed project;

3. The adequacy of mechanisms for ensuring high-quality products and services from the proposed project;

4. The extent to which the time commitments of the project director and principal investigator and other key project personnel are appropriate and adequate to meet the objectives of the proposed project; and

5. How the applicant will ensure that a diversity of perspectives will be brought to bear in the operation of the proposed project, including those of parents, teachers, the business community, a variety of disciplinary and professional fields, recipients or beneficiaries of services, or others, as appropriate.

f. Quality of the project evaluation. (Maximum 20 points) The Secretary considers the quality of the evaluation to be conducted of the proposed project. In determining the quality of the evaluation to be conducted for the proposed project, the Secretary considers the following factors:

1. The extent to which the methods of evaluation are thorough, feasible, and appropriate to the goals, objectives, and outcomes of the proposed project;

2. The extent to which the methods of evaluation provide for examining the effectiveness of project implementation strategies;

3. The extent to which the methods of evaluation include the use of objective performance measures that are clearly related to the intended outcomes of the project and will produce quantitative and qualitative data to the extent possible; and

4. The extent to which the methods of evaluation will provide feedback and permit periodic assessment of progress toward achieving intended outcomes.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department of Education (34 CFR 100.4, 104.5, 106.4, 108.8, and 110.23).

3. Special Conditions: Under 2 CFR 3474.10, the Secretary may impose special conditions and, in appropriate circumstances, high-risk conditions on a grant if the applicant or grantee is not financially stable; has a history of unsatisfactory performance; has a financial or other management system that does not meet the standards in 2 CFR part 200, subpart D; has not fulfilled the conditions of a prior grant; or is otherwise not responsible.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section in this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

4. Performance Measures: The Secretary has established the following Government Performance and Results Act of 1993 (GPRA) performance measures for the Center:

1. The extent to which the project serves students with disabilities, families of students with disabilities, individualized education program teams and individualized plan for employment teams, including growth in numbers served over time and improved user satisfaction ratings with the services received;

2. The extent to which the project provides information and technical assistance to faculty, staff and administrators of institutions of higher education aimed at improving accommodation, retention and completion rates of students with disabilities, including growth in the number of persons and institutions served over time and improved user satisfaction ratings with services received, baseline change over time in retention and completion rates of students with disabilities at the institutions served; and

3. The extent and growth over time in utilization of the database of disability services information by institutions of higher education, including improved user satisfaction ratings of the accessibility and utility of the information provided.

These measures constitute the Department's indicators of success for this program. Consequently, we advise an applicant for an award under this program to give careful consideration to the operationalization of the measures in conceptualizing the approach and evaluation for its proposed project.

If funded, you will be required to collect and report data in your project's annual performance report (34 CFR 75.590).

VII. Agency Contact

FOR FURTHER INFORMATION CONTACT: John Clement, National Center for Information and Technical Support for Postsecondary Students with Disabilities, U.S. Department of Education, 1990 K Street NW., Room 6006, Washington, DC 20006-8544. Telephone: (202)502-7520 FAX: (202) 502-7877. Email: john.clement@ed.gov.

If you use a TDD or a TTY, call the FRS, toll free, at 1-800-877-8339.

VIII. Other Information

Accessible Format: Individuals with disabilities can obtain this document and a copy of the application package in an accessible format (e.g., braille, large print, audiotape, or compact disc) on request to the program contact person listed under FOR FURTHER INFORMATION CONTACT in section VII of this notice.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Delegation of Authority: The Secretary of Education has delegated authority to Jamienne S. Studley, Deputy Under Secretary, to perform the functions and duties of the Assistant Secretary for Postsecondary Education.

Dated: June 16, 2015.
Jamienne S. Studley,
Deputy Under Secretary.

[FR Doc. 2015-15191 Filed 6-18-15; 8:45 am]

BILLING CODE 4000-01-P